DEPARTMENT OF ENERGY

Federal Energy Regulatory Commission

Combined Notice of Filings #2

Take notice that the Commission received the following electric rate filings:

Docket Numbers: ER10-1989-018; ER10-2078-022; ER11-4678-018; ER12-1660-021; ER12-631-019; ER13-2458-016; ER13-2474-019; ER15-1016-011; ER16-1277-011; ER16-1293-011; ER17-2270-013; ER17-582-009; ER17-583-009; ER18-2032-009; ER18-2091-008; ER19-2382-005; ER19-2495-005; ER19-2513-005; ER19-774-007; ER20-2069-002; ER20-2070-003; ER20-2237-003; ER20-2597-003; ER20-2603-003; ER20-637-003; ER20-780-003; ER21-255-004; ER21-744-001.

Applicants: Sky River LLC, White Oak Energy LLC, Vasco Winds, LLC, Windpower Partners 1993, Tuscola Bay Wind, LLC, Tuscola Wind II, LLC, Steele Flats Wind Project, LLC, Shafter Solar, LLC, White Pine Solar, LLC, White Oak Solar, LLC, Westside Solar, LLC, Whitney Point Solar, LLC, Stuttgart Solar, LLC, Wildcat Ranch Wind Project, LLC, Titan Solar, LLC, Stanton Clean Energy, LLC, Story County Wind, LLC, Wessington Springs Wind, LLC, Wilton Wind Energy II, LLC, Wilton Wind Energy I, LLC, Sooner Wind, LLC, Wheatridge Wind Energy, LLC, Wheatridge Wind II, LLC, Weatherford Wind, LLC, Soldier Creek Wind, LLC, Skeleton Creek Wind, LLC, Taylor Creek Solar, LLC, Wallingford Renewable Energy LLC.

Description: Notice of Change in Status of GridLiance Transcos (Part 4).

Filed Date: 4/30/21.

Accession Number: 20210430-5751.

Comments Due: 5 p.m. ET 5/21/21.

Docket Numbers: ER18-1535-007; ER10-1951-033; ER10-1970-021; ER10-1972-021; ER10-1973-015; ER10-1974-026; ER10-2641-039; ER11-2192-017; ER11-4462-054; ER11-4677-018; ER12-2444-017; ER12-676-014; ER13-2461-016; ER14-21-009; ER14-2708-021; ER14-2709-020; ER14-2710-020; ER15-2243-009; ER15-30-018; ER15-58-018; ER16-1440-014; ER16-1913-008; ER16-2240-014; ER16-2241-013; ER16-2297-013; ER16-2443-008; ER16-2506-013; ER17-1774-006; ER17-196-006; ER17-838-029; ER18-1981-009; ER18-2224-012; ER18-2314-005; ER18-772-006; ER18-807-007; ER19-11-006; ER19-1128-003; ER19-2266-004; ER20-1219-003; ER20-1220-003; ER20-1879-004; ER20-1985-003; ER20-1988-004; ER20-1991-003; ER20-2012-003; ER20-2153-004; ER20-2380-003; ER20-2648-003; ER20-792-003; ER21-183-001.

Applicants: Montauk Energy Storage Center, LLC, Mountain View Solar, LLC, NEPM II, LLC, New Mexico Wind, LLC, NextEra Blythe Solar Energy Center, LLC, NextEra Energy Bluff Point, LLC, NextEra Energy Duane Arnold, LLC, NextEra Energy Montezuma II Wind, LLC, NextEra Energy Point Beach, LLC, NextEra Energy Marketing, LLC, NextEra Energy Seabrook, LLC, NextEra Energy Services Massachusetts, LLC, Northeast Energy Associates, A Limited Partnership, Ninnescah Wind Energy, LLC, North Sky River Energy, LLC, Northern Colorado Wind Energy Center II, LLC, Northern Colorado Wind Energy Center, LLC, Northern Divide Wind, LLC, Nutmeg Solar, LLC, Oklahoma Wind, LLC, Oleander Power Project, Limited Partnership, Oliver Wind Energy Center II, LLC, Oliver Wind I, LLC, Oliver Wind III, LLC, Orbit Bloom Energy, LLC, Osborn Wind Energy, LLC, Palo Duro Wind Energy, LLC, Palo Duro Wind Interconnection Services, LLC, Peetz Logan Interconnect, LLC, Peetz Table Wind, LLC, Pegasus Wind, LLC, Perrin Ranch Wind, LLC, Pheasant Run Wind, LLC, Pima Energy Storage System, LLC, Pinal Central Energy Center, LLC, Ponderosa Wind, LLC, Pratt Wind, LLC, Quitman Solar, LLC, Red Mesa Wind, LLC, River Bend Solar, LLC, Roswell Solar, LLC, Rush Springs Energy Storage, LLC, Rush Springs Wind Energy, LLC, Saint Solar, LLC, Sanford Airport Solar, LLC, Seiling Wind, LLC, Seiling Wind II, LLC, Seiling Wind Interconnection Services, LLC, Sholes Wind, LLC, Silver State Solar Power South, LLC.

Description: Notice of Change in Status of GridLiance Transcos (Part 3).

Filed Date: 4/30/21.

Accession Number: 20210430-5754.

Comments Due: 5 p.m. ET 5/21/21.

Docket Numbers: ER19-2462-002; ER18-2264-007; ER19-289-005; ER11-4111-002.

Applicants: Macquarie Energy LLC, Macquarie Energy Trading LLC, Cleco Cajun LLC, Hudson Ranch Power I LLC.

Description: Supplement to November 30, 2020, February 2, 2021, and March 1, 2021 Notice of Non-Material Change in Status of Macquarie Energy LLC, et al.

Filed Date: 5/4/21.

Accession Number: 20210504-5184.

Comments Due: 5 p.m. ET 5/25/21.

Docket Numbers: ER20-1150-002.

Applicants: The Dayton Power and Light Company, PJM Interconnection, L.L.C.

Description: Compliance filing: Dayton submits Compliance Filing re: Refund Report in ER20-1150-001 to be effective 5/3/2020.

Filed Date: 5/5/21.

Accession Number: 20210505-5129.

Comments Due: 5 p.m. ET 5/26/21.

Docket Numbers: ER21-1225-001.

Applicants: Long Ridge Energy Generation LLC.

Description: Tariff Amendment: Deficiency Response to MBR Application-Docket ER21-1225 to be effective 4/29/2021.

Filed Date: 5/5/21.

Accession Number: 20210505-5108.

Comments Due: 5 p.m. ET 5/26/21.

Docket Numbers: ER21-1832-000.

Applicants: SunEnergy1, LLC.

Description: Petition for Limited Waiver and Request for Shortened Comment Period and Expedited Commission Approval of SunEnergy1, LLC.

Filed Date: 5/3/21.

Accession Number: 20210503-5144.

Comments Due: 5 p.m. ET 5/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2021.
Kimberly D. Bose,
Secretary.

[FR Doc. 2021-09934 Filed 5-10-21; 8:45 am]

BILLING CODE 6717-01-P